DEPARTMENT OF TRANSPORTATION

Federal Aviation Administration

14 CFR Part 39

[Docket No. FAA-2024-1895; Project Identifier MCAI-2023-01240-T]

RIN 2120-AA64

Airworthiness Directives; Airbus SAS Airplanes

AGENCY: Federal Aviation Administration (FAA), DOT.

ACTION: Supplemental notice of proposed rulemaking (SNPRM).

SUMMARY: The FAA is revising a notice of proposed rulemaking (NPRM) to supersede Airworthiness Directive (AD) 2022-08-08, which applies to certain Airbus SAS Model A318-111, -112, -121, -122 airplanes; Model 319-111, -112, -113, -114, -115, -131, -132, -133, -151N, -153N, and -171N airplanes; Model A320-211, -212, -214, -216, -231, -232, -233, -251N, -252N, -253N, -271N, -272N, and -273N airplanes; and Model A321-111, -112, -131, -211, -212, -213, -231, -232, -251N, -251NX, -252N, -252NX, -253N, -253NX, -271N, -271NX, -272N, and -272NX airplanes. This action revises the NPRM by adding requirements for certain airplanes. The FAA is proposing this AD to address the unsafe condition on these products. Since these actions would impose an additional burden over that in the NPRM, the FAA is reopening the comment period to allow the public the chance to comment on these changes.

DATES: The FAA must receive comments on this SNPRM by April 4, 2025.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-1895; or in person at Docket Operations between 9 a.m. and 5 p.m., Monday through Friday, except Federal holidays. The AD docket contains the NPRM, this SNPRM, the mandatory continuing airworthiness information (MCAI), any comments received, and other information. The street address for Docket Operations is listed above.

Material Incorporated by Reference:

• For EASA material identified in this proposed AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195.

FOR FURTHER INFORMATION CONTACT: Timothy Dowling, Aviation Safety Engineer, FAA, 2200 South 216th St., Des Moines, WA 98198; telephone 206-231-3667; email Timothy.P.Dowling@faa.gov.

SUPPLEMENTARY INFORMATION:

Comments Invited

The FAA invites you to send any written relevant data, views, or arguments about this proposal. Send your comments to an address listed under the ADDRESSES section. Include “Docket No. FAA-2024-1895; Project Identifier MCAI-2023-01240-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this SNPRM.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Timothy Dowling, Aviation Safety Engineer, FAA, 2200 South 216th St., Des Moines, WA 98198; telephone 206-231-3667; email Timothy.P.Dowling@faa.gov. Any commentary that the FAA receives which is not specifically designated as CBI will be placed in the public docket for this rulemaking.

Background

The FAA issued AD 2022-08-08, Amendment 39-22011 (87 FR 23755, April 21, 2022) (AD 2022-08-08), for certain Airbus SAS Model A318 series airplanes; Model A319-111, -112, -113, -114, -115, -131, -132, and -133 airplanes; Model A320-211, -212, -214, -216, -231, -232, and -233 airplanes; and Model A321-111, -112, -131, -211, -212, -213, -231, and -232 airplanes. AD 2022-08-08 requires repetitive special detailed inspections of certain areas and applicable on-condition actions. The FAA issued AD 2022-08-08 to address cracks in the double joggle areas at frame (FR) 16 and FR20, right-hand and left-hand sides, which, if not detected and corrected, could reduce the structural integrity of the fuselage.

The FAA issued an NPRM to amend 14 CFR part 39 by adding an AD to supersede AD 2022-08-08 that would apply to certain Airbus SAS Model A318 series airplanes; Model A319-111, -112, -113, -114, -115, -131, -132, and -133 airplanes; Model A320-211, -212, -214, -216, -231, -232, and -233 airplanes; and Model A321-111, -112, -131, -211, -212, -213, -231, and -232 airplanes. The NPRM published in the Federal Register on July 24, 2024 (89 FR 59857). The NPRM was prompted by an MCAI issued by The European Union Aviation Safety Agency (EASA), which is the Technical Agent for the Member States of the European Union. EASA issued AD 2023-0212, dated December 6, 2023 (EASA 2023-0212), to correct an unsafe condition. The NPRM proposed to continue to require repetitive special detailed inspections for cracking of double joggle areas at FR16 and FR20, right-hand and left-hand sides, and applicable on-condition actions (repair). The NPRM also proposed to provide an optional modification of the double joggle area that would terminate the repetitive inspections, and add airplanes to the applicability.

Actions Since the NPRM Was Issued

Since the FAA issued the NPRM, EASA superseded AD 2023-0212 and issued EASA AD 2024-0217, dated November 18, 2024 (EASA AD 2024-0217) (also referred to as the MCAI). The MCAI states that EASA AD 2023-0212 incorrectly terminated the AD-mandated repetitive inspections for all the Airbus repair instructions; only those in which the termination of the AD mandated inspection was explicitly written in the Airbus approved instructions should have been terminated. Therefore, additional requirements are necessary for airplanes that have been repaired after accomplishment of ALI tasks 531153-02 or 531155-02. The MCAI applies to certain Airbus SAS Model A318-111, -112, -121, -122 airplanes; Model 319-111, -112, -113, -114, -115, -131, -132, -133, -151N, -153N, and -171N airplanes; Model A320-211, -212, -214, -216, -231, -232, -233, -251N, -252N, -253N, -271N, -272N, and -273N airplanes; and Model A321-111, -112, -131, -211, -212, -213, -231, -232, -251N, -251NX, -252N, -252NX, -253N, -253NX, -271N, -271NX, -272N, and -272NX airplanes.

The FAA is proposing this AD to address reports that, during inspections accomplished as specified in certain airworthiness limitation items (ALIs), cracks were detected in the double joggle areas at frame (FR) 16 and FR20 in the nose forward fuselage. The unsafe condition, if not addressed, could result in reduced structural integrity of the fuselage. You may examine the MCAI in the AD docket at regulations.gov under Docket No. FAA-2024-1895.

Comments

The FAA received a comment from Air Line Pilots Association, International (ALPA), who supported the NPRM without change.

The FAA received an additional comment from American Airlines. The following presents the FAA's response.

Request To Require New EASA AD

In the proposed AD, the FAA would have required compliance with EASA AD 2023-0212 (with specified exceptions). American Airlines stated that EASA issued proposed AD (PAD) 24-085 to supersede EASA AD 2023-0212. American Airlines requested that the FAA amend the proposed AD to require compliance with the new EASA AD to ensure that operators and the FAA are aligned with the latest EASA requirements.

The FAA agrees with American Airlines' request. This SNPRM would require the actions specified in EASA AD 2024-0217 including the additional requirements previously described relating to the terminating action for the repetitive inspections.

Additional Changes Made to This Proposed AD

Because the NPRM incorrectly allowed for termination of the mandated inspections for all Airbus repair instructions, this proposed AD revises the NPRM by requiring the actions specified in EASA AD 2024-0217, which in turn corrects the terminating action provisions.

Material Incorporated by Reference Under 1 CFR Part 51

The FAA reviewed EASA AD 2024-0217. This material specifies procedures for repetitive special detailed inspections for cracking of double joggle areas at FR16 and FR20, right-hand and left-hand sides, applicable on-condition actions (repair), and an optional modification of the double joggle area that terminates the repetitive inspections. The modification includes a rotating probe inspection of certain fastener holes for cracks, a check of the fastener holes for a minimum diameter, and applicable on-condition actions. EASA AD 2024-0217 also specifies that new SRM tasks have been developed that are acceptable for compliance with the corrective actions required by AD 2022-08-08 for airplanes affected by that AD. EASA AD 2024-0217 specifies additional requirements for airplanes that have been repaired after accomplishment of airworthiness limitations item (ALI) task 531153-02 or 531155-02. This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI and material referenced above. The FAA is issuing this SNPRM after determining that the unsafe condition described previously is likely to exist or develop on other products of the same type design.

Certain changes described above expand the scope of the NPRM. As a result, it is necessary to reopen the comment period to provide additional opportunity for the public to comment on this SNPRM.

Proposed Requirements of This SNPRM

This proposed AD would retain all requirements of AD 2022-08-08. This proposed AD would add requirements for certain airplanes, add airplanes to the applicability, and require accomplishing the actions specified in the material described previously.

Costs of Compliance

The FAA estimates that this AD, if adopted as proposed, would affect 1,755 airplanes of U.S. registry. The FAA estimates the following costs to comply with this proposed AD:

Estimated Costs for Required Actions
Labor cost | Parts cost | Cost per product | Cost on U.S. operators
Up to 55 work-hours × $85 per hour = Up to $4,675 | $0 | Up to $4,675 | Up to $8,204,625.

Estimated Costs for Optional Actions
Labor cost | Parts cost | Cost per product
60 work-hours × $85 per hour = $5,100 | $1,624 | $6,724

The FAA has received no definitive data on which to base the cost estimates for the on-condition repairs specified in this proposed AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-08-08, Amendment 39-22011 (87 FR 23755, April 21, 2022); and

b. Adding the following new AD:

Airbus SAS: Docket No. FAA-2024-1895; Project Identifier MCAI-2023-01240-T.

(a) Comments Due Date

The FAA must receive comments on this airworthiness directive (AD) by April 4, 2025.

(b) Affected ADs

(1) This AD replaces AD 2022-08-08, Amendment 39-22011 (87 FR 23755, April 21, 2022) (AD 2022-08-08).

(2) This AD affects AD 2023-13-10, Amendment 39-22495 (88 FR 50005, August 1, 2023) (AD 2023-13-10).

(c) Applicability

This AD applies to Airbus SAS Model airplanes specified in paragraphs (c)(1) through (4) of this AD, certificated in any category, as identified in European Union Aviation Safety Agency (EASA) AD 2024-0217, dated November 18, 2024 (EASA AD 2024-0217).

(1) Model A318-111, -112, -121, and -122 airplanes.

(2) Model A319-111, -112, -113, -114, -115, -131, -132, -133, -151N, -153N, and -171N airplanes.

(3) Model A320-211, -212, -214, -216, -231, -232, -233, -251N, -252N, -253N, -271N, -272N, and -273N airplanes.

(4) Model A321-111, -112, -131, -211, -212, -213, -231, -232, -251N, -251NX, -252N, -252NX, -253N, -253NX, -271N, -271NX, -272N, and -272NX airplanes.

(d) Subject

Air Transport Association (ATA) of America Code 53, Fuselage.

(e) Unsafe Condition

This AD was prompted by reports that, during inspections accomplished as specified in certain airworthiness limitation items (ALIs), cracks were detected in the double joggle areas at frame (FR) 16 and FR20 in the nose forward fuselage. The unsafe condition, if not addressed, could result in reduced structural integrity of the fuselage.

(f) Compliance

Comply with this AD within the compliance times specified, unless already done.

(g) Requirements

Except as specified in paragraphs (h) and (i) of this AD: Comply with all required actions and compliance times specified in, and in accordance with, EASA AD 2024-0217.

(h) Exceptions to EASA AD 2024-0217

(1) Replace paragraph (3) of EASA AD 2024-0217 with “For an airplane that has been repaired before the effective date of this AD in an affected area using Airbus-approved instructions unrelated to (not a result of a finding during an ALI inspection or the inspection SB) ALI task 531153-02-1, 531153-02-2, 531155-02-1, 531155-02-2, 531153-03-1, 531155-03-1 and/or the inspection SB, as applicable. Before exceeding the thresholds as specified in Table 1 (for CEO airplanes) or Table 2 (for NEO airplanes) of this AD, as applicable, contact Airbus for approved instructions and accomplish those instructions accordingly.”

(2) Where paragraph (4) of EASA AD 2024-0217 specifies to “contact Airbus for approved repair instructions and, within the compliance time specified therein, accomplish those instructions accordingly” if any cracks are detected, for this AD if any cracking is detected, the cracking must be repaired before further flight using a method approved by the Manager, AIR-520, Continued Operational Safety Branch, FAA; or EASA; or Airbus SAS's EASA Design Organization Approval (DOA). If approved by the DOA, the approval must include the DOA-authorized signature.

(3) This AD does not adopt the “Remarks” section of EASA AD 2024-0217.

(i) No Reporting Requirement

Although the service information referenced in EASA AD 2024-0217 specifies to submit certain information to the manufacturer, this AD does not include that requirement.

(j) Terminating Action for Certain Requirements in AD 2023-13-10

Accomplishing the actions required by this AD terminates ALI Tasks 531153-02-1, 531153-02-2, 531155-02-1, and 531155-02-2, as required by paragraph (o) of AD 2023-13-10 only for the airplanes identified in paragraph (c) of this AD.

(k) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of AIR-520, Continued Operational Safety Branch, mail it to the address identified in paragraph (l) of this AD. Information may be emailed to: AMOC@faa.gov.

(i) Before using any approved AMOC, notify your appropriate principal inspector, or lacking a principal inspector, the manager of the responsible Flight Standards Office.

(ii) AMOCs approved previously for AD 2022-08-08 are approved as AMOCs for the corresponding provisions of EASA AD 2024-0217 that are required by paragraph (g) of this AD.

(2) Contacting the Manufacturer: For any requirement in this AD to obtain instructions from a manufacturer, the instructions must be accomplished using a method approved by the Manager, AIR-520, Continued Operational Safety Branch, FAA; or EASA; or Airbus SAS's EASA DOA. If approved by the DOA, the approval must include the DOA-authorized signature.

(3) Required for Compliance (RC): Except as required by paragraphs (h)(2) and (k)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Additional Information

For more information about this AD, contact Timothy Dowling, Aviation Safety Engineer, FAA, 2200 South 216th St., Des Moines, WA 98198; telephone 206-231-3667; email Timothy.P.Dowling@faa.gov.

(m) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0217, dated November 18, 2024.

(ii) [Reserved].

(3) For EASA material identified in this AD, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on February 11, 2025.
Peter A. White,
Deputy Director, Integrated Certificate Management Division, Aircraft Certification Service.

[FR Doc. 2025-02633 Filed 2-14-25; 8:45 am]

BILLING CODE 4910-13-P